DEPARTMENT OF THE INTERIOR

Fish and Wildlife Service

Information Collection Submitted to the Office of Management and Budget (OMB) for Approval Under the Paperwork Reduction Act; Federal Subsistence Regulations and Associated Forms (50 CFR part 100)

AGENCY: Fish and Wildlife Service, Interior.

ACTION: Notice; request for comments.

SUMMARY: The U.S. Fish and Wildlife Service has submitted the collection of information listed below to OMB for approval under the provisions of the Paperwork Reduction Act. If you wish to obtain copies of the proposed information collection requirement, related forms, or explanatory material, contact the Service Information Collection Clearance Officer at the address listed below.

DATES: We will accept comments until August 4, 2003.

ADDRESSES: Submit your comments on this information collection renewal to the Desk Officer for the Department of the Interior at OMB-OIRA via facsimile or e-mail using the following fax number or e-mail address: (202) 395-5806 (fax); ruth_solomon@omb.eop.gov (e-mail). Please provide a copy of your comments to the Fish and Wildlife Service's Information Collection Clearance Officer, 4401 N. Fairfax Dr., MS 222 ARLSQ, Arlington, VA 22207; (703) 358-2269 (fax); or anissa_craghead@fws.gov (e-mail).

FOR FURTHER INFORMATION CONTACT: To request a copy of the information collection request, explanatory information, or related forms, contact Anissa Craghead at (703) 358-2445, or electronically to anissa_craghead@fws.gov.

SUPPLEMENTARY INFORMATION: The Office of Management and Budget (OMB) regulations at 5 CFR part 1320, which implement provisions of the Paperwork Reduction Act of 1995 (44 U.S.C. 3501 et seq.), require that interested members of the public and affected agencies have an opportunity to comment on information collection and recordkeeping activities (see 5 CFR 1320.8(d)). The U.S. Fish and Wildlife Service (We) has submitted a request to OMB to renew its approval of the collection of information related to the Federal Subsistence Regulations (50 CFR part 100) and their associated forms. We are requesting a 3-year term of approval for this information collection activity. Federal agencies may not conduct or sponsor, and a person is not required to respond to, a collection of information unless it displays a currently valid OMB control number.

Title VIII of the Alaska National Interest Lands Conservation Act (16 U.S.C. 3101) designates the Departments of the Interior as the key agency responsible for implementing the subsistence priority on Federal public lands for rural Alaska residents. This responsibility includes the establishment of permits for rural residents to participate in special hunts. In addition, our regulations at 50 CFR part 100.20 provide for the appeal of Federal Subsistence Board decisions by persons affected by those decisions.

On January 16, 2003, we published in the Federal Register (68 FR 2347) a notice informing the public that we are submitting the information collection described below to OMB for approval under the Paperwork Reduction Act. We requested public comment on the forms for 60 days, ending March 17, 2003. By that date, we did not receive any comments.

Regulation Citation: 50 CFR part 100.6.

OMB Number: 1018-0075.

Service Form Name and Number: Federal Subsistence Hunt Application, Permit, and Report, Form 7FS-1.

Frequency of Collection: On occasion.

Description of Respondents: Federally defined rural residents.

Total Annual Burden Hours: We estimate the reporting burden to average 0.25 hours per respondent. The total annual burden is 1,225 hours.

Total Annual Responses: 4,900.

Regulation Citation: 50 CFR part 100.6.

OMB Number: 1018-0075.

Service Form Name and Number: Designated Hunter Permit Application, Permit, and Report, Form 7FS-2.

Frequency of Collection: On occasion.

Description of Respondents: Federally defined rural residents.

Total Annual Burden Hours: We estimate the reporting burden to average 0.25 hours per respondent. The total annual burden is 100 hours.

Total Annual Responses: 400.

Regulation Citation: 50 CFR part 100.6.

OMB Number: 1018-0075.

Service Form Name and Number: Federal Subsistence Fish/Shellfish Harvest/Designated Harvester Application, Permit, and Report, Form 7FS-3.

Frequency of Collection: On occasion.

Description of Respondents: Federally defined rural residents.

Total Annual Burden Hours: We estimate the reporting burden to average 0.5 hours per respondent. The total annual burden is 62.5 hours.

Total Annual Responses: 125.

Regulation Citation: 50 CFR part 100.20.

OMB Number: 1018-0075.

Description: Request for an appeal of a Federal Subsistence Board decision.

Frequency of Collection: On occasion.

Description of Respondents: Federally defined rural residents.

Total Annual Burden Hours: We estimate the reporting burden to average 4 hours per respondent. The total annual burden is 4 hours.

Total Annual Responses: 1.

We again invite comments concerning this proposed information collection on: (1) Whether the collection of information is necessary for the proper performance of our functions, including whether the information will have practical utility; (2) the accuracy of our estimate of the burden of the collection of information; (3) ways to enhance the quality, utility, and clarity of the information to be collected; and (4) ways to minimize the burden of the collection of information on respondents.

Dated: June 30, 2003.
Anissa Craghead,
Information Collection Officer, Fish and Wildlife Service.

[FR Doc. 03-16861 Filed 7-2-03; 8:45 am]

BILLING CODE 4310-55-P